DEPARTMENT OF JUSTICE

Notice of Lodging of Consent Decree Under the Clean Air Act

Notice is hereby given that on December 20, 2001 a proposed Consent Decree (“Decree”) in United States v. Conoco, Inc. Civil Action No. 01-2478, was lodged with the United States District Court for the District of Colorado.

The proposed consent resolves claims for civil penalties and permanent injunctive relief for violation of the National Emission Standards for Hazardous Air Pollutants (“NESHAP”) requirements of section 112 of the CAA, 42 U.S.C. 7412, and the implementing regulations pertaining to petroleum refineries found at 40 CFR part 63, subpart CC, at Conoco's petroleum refinery located at 5801 Brighton Blvd. in Commerce City, Co.

Under the terms of the decree Conoco will pay a civil penalty of $38,775.20, and comply with all performance test and reporting requirements applicable to the flares. Conoco will also complete two supplemental environmental projects, at a cost of no less than $130,000.

The Department of Justice will receive for a period of thirty (30) days from the date of this publication comments relating to the Decree. Comments should be addressed to the Assistant Attorney General, Environment and Natural Resources Division, Denver Field Office, 999 18th Street, Suite 945NT, Denver, Co 80202, and should refer to United States v. Conoco, Inc., D.J. Ref. 90-5-2-1-07295.

The Decree may be examined at the offices of the EPA Library, EPA Region VIII, located at 999 18th Street, First Floor, Denver, Colorado 80202. A copy of the Decree may also be obtained by mail from the Consent Decree Library, P.O. Box 7611, U.S. Department of Justice, Washington, DC 20044-7611. In requesting a copy of the Decree, please enclose a check payable to the Consent Decree Library for $8.50 for a complete copy of the decree (25 cents per page, reproduction cost).

Robert Brook,
Assistant Section Chief, Environmental Enforcement Section, Environment and Natural Resources Division.

[FR Doc. 01-32224 Filed 12-31-01; 8:45 am]

BILLING CODE 4410-15-M